COMMISSION ON CIVIL RIGHTS

Notice of Public Meeting of the Connecticut Advisory Committee

AGENCY: Commission on Civil Rights.

ACTION: Announcement of meeting.

SUMMARY: Notice is hereby given, pursuant to the provisions of the rules and regulations of the U.S. Commission on Civil Rights (Commission), and the Federal Advisory Committee Act (FACA), that the Connecticut Advisory Committee to the U.S. Commission on Civil Rights will hold a fourth briefing via web conference or phone call on Friday, July 22, 2022, at 1:00 p.m. (ET). The purpose of the meeting is to review, edit, and vote of the report on zoning practices in Connecticut.

DATES: July 22, 2022, Friday, at 1:00 p.m. (ET):

Join by Web Conference: WebEx link: https://tinyurl.com/mr2m43x5; password, if needed: USCCR-CT.

Join by Phone Only, Dial: 1-800-360-9505; Access Code: 2763 045 7288#.

FOR FURTHER INFORMATION CONTACT: Barbara Delaviez at ero@usccr.gov or by phone at 202-539-8246.

SUPPLEMENTARY INFORMATION: This meeting is available to the public through the WebEx link and/or phone number/access code above. If joining only via phone, callers can expect to incur charges for calls they initiate over wireless lines, and the Commission will not refund any incurred charges. Individuals who are deaf, deafblind and hard of hearing. may also follow the proceedings by first calling the Federal Relay Service at 1-800-877-8339 and providing the Service with the call-in number found through registering at the web links provided for these meeting.

Members of the public are entitled to make comments during the open period at the end of the meeting. Members of the public may also submit written comments; the comments must be received in the Regional Programs Unit within 30 days following the meeting. Written comments may be emailed to Barbara de La Viez at ero@usccr.gov. Persons who desire additional information may contact the Regional Programs Unit at (202) 539-8246. Records and documents discussed during the meeting will be available for public viewing as they become available at www.facadatabase.gov. Persons interested in the work of this advisory committee are advised to go to the Commission's website, www.usccr.gov, or to contact the Regional Programs Unit at the above phone number or email address.

Agenda

Friday, July 22, 2022, at 1:00 p.m. (ET)

I. Welcome and Roll Call

II. Review Report on Zoning Practices in Connecticut

III. Vote on Zoning Report

IV. Next Steps

V. Public Comment

VI. Adjournment

Dated: July 7, 2022.
David Mussatt,
Supervisory Chief, Regional Programs Unit.

[FR Doc. 2022-14844 Filed 7-11-22; 8:45 am]

BILLING CODE 6335-01-P